DEPARTMENT OF ENERGY

Federal Energy Regulatory Commission

[Docket No. EC01-136-000, et al.]

Aquila Energy Marketing Corporation, et al.; Electric Rate and Corporate Regulation Filings

August 10, 2001.

Take notice that the following filings have been made with the Commission:

1. Aquila Energy Marketing Corporation

[Docket No. EC01-136-000]

Take notice that on August 8, 2001, Aquila Energy Marketing Corporation (AEMC), filed with the Federal Energy Regulatory Commission (Commission) an application for approval pursuant to section 203 of the Federal Power Act and section 33 of the Commission's regulations of the internal restructuring resulting from the merger of AEMC into its parent Aquila, Inc. (Aquila) with Aquila as the surviving corporation. All jurisdictional assets of AEMC will be transferred to Aquila. AEMC has asked the Commission to approve the Application within thirty days of filing.

Comment date: August 29, 2001, in accordance with Standard Paragraph E at the end of this notice.

2. Conectiv Bethlehem, Inc.

[Docket No. EG01-278-000]

Take notice that on August 3, 2001, Conectiv Bethlehem, Inc. (CBI) filed an Application for Determination of Exempt Wholesale Generator Status (Application) pursuant to Section 32(a)(1) of the Public Utilities Holding Company Act of 1935 (PUHCA), all as more fully explained in the Application.

CBI will own and operate a facility located in Bethlehem, Pennsylvania (the “Eligible Facility” for purposes of PUHCA and the Commission's EWG regulations). The Eligible Facility, a natural gas-fired combined cycle turbine, will have a generating capacity of approximately 1100 MW. The Eligible Facility will be interconnected to PP&L, Inc.'s transmission system via PP&L, Inc.'s transmission voltage facilities. CBI has served this filing on Pennsylvania Public Utility Commission, Maryland Public Service Commission, Delaware Public Service Commission, New Jersey Board of Public Utilities, Virginia State Corporation Commission and the Securities and Exchange Commission (SEC).

Comment date: August 31, 2001, in accordance with Standard Paragraph E at the end of this notice. The Commission will limit its consideration of comments to those that concern the adequacy or accuracy of the application.

3. Allegheny Energy Service Corporation on behalf of Allegheny Energy Supply Company, LLC

[Docket No. ER01-2649-001]

Take notice that on August 3, 2001, Allegheny Energy Service Corporation on behalf of Allegheny Energy Supply Company, LLC (Allegheny Energy Supply) filed First Revised Service Agreement No. 137 to complete the filing requirement for one (1) new Customer of the Market Rate Tariff under which Allegheny Energy Supply offers generation services. Allegheny Energy Supply continues to requests a waiver of notice requirements to maintain the effective date of June 26, 2001 for Service Agreement has also been requested.

Copies have been proved to the Public Utilities Commission of Ohio, the Pennsylvania Public Utility Commission, the Maryland Public Service Commission, the Virginia State Corporate Commission, the West Virginia Public Service Commission, and all parties of record.

Comment date: August 24, 2001, in accordance with Standard Paragraph E at the end of this notice.

4. Indianapolis Power & Light Company

[Docket No. ER01-2683-001]

Take notice that on August 3, 2001, Indianapolis Power & Light Company filed a First Revised Service Agreement for Non-Firm Point-to-Point Transmission Service between Indianapolis Power & Light Company and Dayton Power & Light Company, under its open access transmission tariff in the above-captioned proceeding.

Comment date: August 24, 2001, in accordance with Standard Paragraph E at the end of this notice.

5. Public Service Company of New Mexico

[Docket No. ER01-2780-000]

Take notice that on August 3, 2001, Public Service Company of New Mexico (PNM) submitted for filing an executed service agreement with Nevada Power Company (Nevada), under the terms of PNM's Open Access Transmission Tariff. The agreement is for short-term firm point-to-point transmission service and is effective as of July 13, 2001, the execution date of the agreement. PNM's filing is available for public inspection at its offices in Albuquerque, New Mexico.

Copies of the filing have been sent to Nevada and to the New Mexico Public Regulation Commission.

Comment date: August 24, 2001, in accordance with Standard Paragraph E at the end of this notice.

6. Entergy Koch Trading, L.P. formerly known as Axia Energy, L.P.

[Docket No. ER01-2781-000]

Take notice that on August 3, 2001, Axia Energy, L.P. (Axia) filed (1) a Notice of Succession informing the Commission that the corporate name of Axia Energy, L.P. (Axia) was changed to Entergy Koch Trading, LP (EKT), effective August 1, 2001; (2) a Notice of Cancellation for the existing Axia market rate tariff (FERC Electric Rate Schedule No. 1); and (3) new tariff sheets for FERC Electric Rate Schedule No. 1 under the name of EKT. The new EKT tariff sheets are identical to those of Axia except for the change in corporate name. Axia was granted market rate authority by the Commission in Docket No. ER01-667-000.

Axia Energy, L.P. stated that it served a copy of the foregoing on the Arkansas Public Service Commission, Mississippi Public Service Commission, Louisiana Public Service Commission, Texas Public Utility Commission, and the Council of the City of New Orleans.

Comment date: August 24, 2001, in accordance with Standard Paragraph E at the end of this notice.

7. Florida Power & Light Company

[Docket No. ER01-2782-000]

Take notice that on August 3, 2001 Florida Power & Light Company (FPL) tendered for filing proposed service agreements with Exelon Generation Company, LLC for Non-Firm transmission service and Firm transmission service under FPL's Open Access Transmission Tariff. FPL requests that the proposed service agreements become effective on August 1, 2001.

FPL states that this filing is in accordance with Section 35 of the Commission's regulations.

Comment date: August 24, 2001, in accordance with Standard Paragraph E at the end of this notice.

8. Calpine Construction Finance Company, L.P.

[Docket No. ER01-2784-000]

Take notice that on August 3, 2001, Calpine Construction Finance Company, L.P. (CCFC) filed three executed long-term power marketing agreements under which CCFC will make wholesale sales of electric energy to Calpine Energy Services, L.P. at market-based rates. CCFC requests confidential treatment of these agreements.

Comment date: August 24, 2001, in accordance with Standard Paragraph E at the end of this notice.

9. Nevada Power Company

[Docket No. ER01-2785-000]

Take notice that on August 3, 2001, Nevada Power Company (Nevada Power) filed pursuant to Section 205 of the Federal Power Act, an executed Transmission Service Agreement between Nevada Power and Las Vegas Cogeneration II, LLC.

Comment date: August 24, 2001, in accordance with Standard Paragraph E at the end of this notice.

10. Koch Energy Trading, Inc.

[Docket No. ER01-2786-000]

On August 3, 2001, Koch Energy Trading, Inc. (KET) tendered for a notice of cancellation in operations pursuant to 18 CFR § 35.15 in order to reflect the cancellation of its market-rate tariff originally accepted for filing by the Commission in Docket ER96-1615-000.

Comment date: August 24, 2001, in accordance with Standard Paragraph E at the end of this notice.

11. Entergy Power Marketing Corp.

[Docket No. ER01-2787-000]

On August 3, 2001, Entergy Power Marketing Corp. (EPMC) tendered for a notice of cancellation in operations pursuant to 18 CFR § 35.15 in order to reflect the cancellation of its market-rate tariff originally accepted for filing by the Commission in Docket ER96-1615-000.

Comment date: August 24, 2001, in accordance with Standard Paragraph E at the end of this notice.

12. Allegheny Energy Service Corporation on behalf of Allegheny Energy Supply Company, LLC

[Docket No. ER01-2788-000]

Take notice that on August 3, 2001, Allegheny Energy Service Corporation on behalf of Allegheny Energy Supply Company, LLC (Allegheny Energy Supply) filed First Revised Service Agreement No. 138 to add one new Customer to the Market Rate Tariff under which Allegheny Energy Supply offers generation services. Allegheny Energy Supply continues to requests a waiver of notice requirements to maintain the effective date of August 2, 2001 for service to OGE Energy Resources, Inc. Confidential treatment of information in the Service Agreement has been requested.

Copies have been proved to the Public Utilities Commission of Ohio, the Pennsylvania Public Utility Commission, the Maryland Public Service Commission, the Virginia State Corporate Commission, the West Virginia Public Service Commission, and all parties of record.

Comment date: August 24, 2001, in accordance with Standard Paragraph E at the end of this notice.

13. Caledonia Power I, L.L.C.

[Docket No. ER01-2789-000]

Take notice that on August 3, 2001, Caledonia Power I, LLC (Caledonia) tendered for filing a Master Power Sales Agreement under Caledonia's Market-Based Rate Schedule FERC No. 1, entered into between Caledonia and Cinergy Capital & Trading, Inc. (CCT).

Caledonia and CCT are requesting an effective date of July 5, 2001.

Comment date: August 24, 2001, in accordance with Standard Paragraph E at the end of this notice.

14. Brownsville Power I, L.L.C.

[Docket No. ER01-2790-000]

Take notice that on August 3, 2001, Brownsville Power I, LLC (Brownsville) tendered for filing a Master Power Sales Agreement under Brownsville's Market-Based Rate Schedule FERC No. 1, entered into between Brownsville and Cinergy Capital & Trading, Inc. (CCT).

Brownsville and CCT are requesting an effective date of July 5, 2001.

Comment date: August 24, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-20707 Filed 8-16-01; 8:45 am]

BILLING CODE 6717-01-P